DEPARTMENT OF COMMERCE

National Oceanic and Atmospheric Administration

50 CFR Part 300

[Docket No. 160205084-6510-02]

RIN 0648-XF873

International Fisheries; Western and Central Pacific Fisheries for Highly Migratory Species; 2017 Purse Seine FAD Fishery Closure

AGENCY: National Marine Fisheries Service (NMFS), National Oceanic and Atmospheric Administration (NOAA), Commerce.

ACTION: Temporary rule; fishery closure.

SUMMARY: NMFS announces that U.S. purse seine vessels will be prohibited from fishing on fish aggregating devices (FADs) in the area of application of the Convention on the Conservation and Management of Highly Migratory Fish Stocks in the Western and Central Pacific Ocean (Convention) in the area between the latitudes of 20° N. and 20° S., as a result of reaching the 2017 limit on FAD sets. This action is taken to enable the United States to implement provisions of a conservation and management measure adopted by the Commission for the Conservation and Management of Highly Migratory Fish Stocks in the Western and Central Pacific Ocean (WCPFC or Commission) and to satisfy the obligations of the United States under the Convention, to which it is a Contracting Party.

DATES: Effective 00:00 on December 24, 2017, universal time coordinated (UTC), until 24:00 on December 31, 2017 UTC.

FOR FURTHER INFORMATION CONTACT: Rini Ghosh, NMFS Pacific Islands Regional Office, 808-725-5033.

SUPPLEMENTARY INFORMATION: U.S. purse seine fishing in the area of application of the Convention, or Convention Area, is managed, in part, under the Western and Central Pacific Fisheries Convention Implementation Act (16 U.S.C. 6901, et seq.). Regulations implementing the Act are at 50 CFR part 300, subpart O. On behalf of the Secretary of Commerce, NMFS promulgates regulations under the Act that enable the United States to carry out its obligations under the Convention, including implementation of the decisions of the Commission.

Pursuant to WCPFC Conservation and Management Measure 2015-01, NMFS issued regulations that established a limit of 2,522 FAD sets that may be used by U.S. purse seine fishing vessels in the Convention Area between the latitudes of 20° N and 20° S in calendar year 2017 (see final rule at 81 FR 41239, June 24, 2016, codified at 50 CFR 300.223).

Based on data submitted in logbooks and other available information, NMFS expects that the limit of 2,522 FAD sets for 2017 will be reached and, in accordance with the procedures established at 50 CFR 300.223(b)(2)(iii), announces that restrictions on the use of FADs will be in effect starting at 00:00 on December 24, 2017, UTC. These restrictions will remain in effect until 24:00 on December 31, 2017, UTC.

The specific restrictions, detailed at 50 CFR 300.223(b)(1), prohibit owners, operators, and crew of fishing vessels of the United States from doing any of the following activities in the Convention Area in the area between 20° N latitude and 20° S latitude: (1) Set a purse seine around a FAD or within one nautical mile of a FAD; (2) set a purse seine in a manner intended to capture fish that have aggregated in association with a FAD or a vessel, such as by setting the purse seine in an area from which a FAD or a vessel has been moved or removed within the previous eight hours, or setting the purse seine in an area in which a FAD has been inspected or handled within the previous eight hours, or setting the purse seine in an area into which fish were drawn by a vessel from the vicinity of a FAD or a vessel; (3) deploy a FAD into the water; and (4) repair, clean, maintain, or otherwise service a FAD, including any electronic equipment used in association with a FAD, in the water or on a vessel while at sea. Notwithstanding the restrictions, a FAD may be inspected and handled as needed to identify the FAD, identify and release incidentally captured animals, un-foul fishing gear, or prevent damage to property or risk to human safety. A FAD may also be removed from the water and, if removed, may be cleaned, provided that it is not returned to the water. The following additional restriction also applies: owners, operators and crew of a U.S. fishing vessel shall not submerge lights under water, suspend or hang lights over the side of the purse seine vessel, skiff, watercraft or equipment, or direct or use lights in a manner other than as needed to illuminate the deck of the purse seine vessel or associated skiffs, watercraft or equipment, to comply with navigational requirements, and to ensure the health and safety of the crew. This final restriction does not apply in emergencies as needed to prevent human injury or the loss of human life, the loss of the purse seine vessel, skiffs, watercraft or aircraft, or environmental damage.

Classification

There is good cause under 5 U.S.C. 553(b)(B) to waive prior notice and opportunity for public comment on this action. Compliance with the notice and comment requirement would be impracticable and contrary to the public interest, because NMFS cannot ensure timely compliance with the 2017 limit on FAD sets in the Convention Area based on its receipt of the logbook data and other relevant information to calculate that the FAD limit has been reached. This action is based on the best available information on U.S. purse seine fishing effort on FADs in the Convention Area. The action is taken to enable the United States to comply with its obligations under the Convention and is important for the conservation and management of bigeye tuna, yellowfin tuna, and skipjack tuna in the western and central Pacific Ocean. For the same reasons, there is good cause under 5 U.S.C. 553(d)(3) to establish an effective date less than 30 days after the date of publication of this notice.

This action is required by 50 CFR 300.223(b)(2)(iii) and is exempt from review under Executive Order 12866.

Authority: 16 U.S.C. 6901 et seq.

Dated: December 8, 2017.
Emily H. Menashes,
Acting Director, Office of Sustainable Fisheries, National Marine Fisheries Service.

[FR Doc. 2017-26879 Filed 12-12-17; 8:45 am]

BILLING CODE 3510-22-P